DEPARTMENT OF DEFENSE

Office of the Secretary

5 CFR Part 3601

[Docket ID: DoD-2021-OS-0032]

RIN 0790-AL21

Supplemental Standards of Ethical Conduct for Employees of the Department of Defense; Correction

AGENCY: Department of Defense (DoD).

ACTION: Final rule; correcting amendment.

SUMMARY: The Department of Defense is correcting a final rule that appeared in the Federal Register on February 28, 2023. The Department of Defense, with the concurrence of the U.S. Office of Government Ethics (OGE), finalized amendments to its Supplemental Standards of Ethical Conduct for Employees of the Department of Defense (DoD Supplemental Regulation). The amendments revised and updated the DoD Supplemental Regulation originally written in 1993, to supplement the OGE Standards of Ethical Conduct for Employees of the Executive Branch (OGE Standards). Amendments included changes in the following areas: designation of separate agency components for the purposes of gifts and teaching, speaking, and writing; additional exceptions for gifts from outside sources; additional limitations on gifts between DoD employees; and authority to waive any of the provisions of the DoD Supplemental Regulation.

DATES: This final rule correction is effective December 12, 2023 and is applicable beginning March 30, 2023.

FOR FURTHER INFORMATION CONTACT: Karen Dalheim, Standards of Conduct Office, Office of the Secretary of Defense, Office of the General Counsel; telephone: 703-695-3422.

SUPPLEMENTARY INFORMATION: Subsequent to the publication of the final rule on February 28, 2023 (88 FR 12541), it was discovered that during the final review and editing of the final rule, a comma was moved in the first sentence of § 3601.106(a) introductory text that changed the meaning of the sentence. The document corrects the CFR to reflect the intended version of this paragraph.

List of Subjects in 5 CFR Part 3601

Conflict of interests, Executive branch standards of conduct, Government employees.

Accordingly, the Department of Defense amends 5 CFR part 3601 by making the following correcting amendment:

PART 3601—SUPPLEMENTAL STANDARDS OF ETHICAL CONDUCT FOR EMPLOYEES OF THE DEPARTMENT OF DEFENSE

1. The authority citation for part 3601 continues to read as follows:

Authority: 5 U.S.C. 301, 7301, 7351, 7353; 5 U.S.C. Chapter 131; E.O. 12674, 54 FR 15159, 3 CFR, 1989 Comp., p. 215, as modified by E.O. 12731, 55 FR 42547, 3 CFR, 1990 Comp., p. 306; 5 CFR 2635.105, 2635.203(a), 2635.204(k), 2635.803, 2635.807.

2. In § 3601.106, revise the first sentence of paragraph (a) introductory text to read as follows:

§ 3601.106 Prior approval for outside employment and business activities.

(a) A DoD employee, other than a special Government employee, who is required to file a financial disclosure report (OGE Forms 450 or 278e) shall obtain approval from the agency designee before engaging in a business activity or compensated outside employment with a prohibited source, unless general approval has been given in accordance with paragraph (b) of this section. * * *

* * * * *

Dated: December 6, 2023.
Patricia L. Toppings,
OSD Federal Register Liaison Officer, Department of Defense.

[FR Doc. 2023-27172 Filed 12-11-23; 8:45 am]

BILLING CODE 6001-FR-P